NUCLEAR REGULATORY COMMISSION

Advisory Committee on Reactor Safeguards; Subcommittee Meeting on Thermal-Hydraulic Phenomena; Notice of Meeting

The ACRS Subcommittee on Thermal-Hydraulic Phenomena will hold a meeting on June 13 and 14, 2006, 11555 Rockville Pike, Rockville, Maryland, Room O-1G16.

The entire meeting will be open to public attendance.

The agenda for the subject meeting shall be as follows:

Tuesday, June 13, 2006—8:30 a.m. until the conclusion of business.

Wednesday, June 14, 2006—8:30 a.m. until the conclusion of business.

The Subcommittee will discuss and review reports concerning industry responses related to the resolution of Generic Safety Issue 191 (GSI-191), PWR Sump Performance, and concerning various research activities supporting the resolution of GSI-191, including chemical effects testing. The Subcommittee will hear presentations by and hold discussions with representatives of the NRC staff, their contractors and other interested persons regarding this matter. The Subcommittee will gather information, analyze relevant issues and facts, and formulate proposed positions and actions, as appropriate, for deliberation by the full Committee.

Members of the public desiring to provide oral statements and/or written comments should notify the Designated Federal Official, Mr. Ralph Caruso (Telephone: 301-415-8065) five days prior to the meeting, if possible, so that appropriate arrangements can be made. Electronic recordings will be permitted only during those portions of the meeting that are open to the public.

Further information regarding this meeting can be obtained by contacting the Designated Federal Official between 7:30 a.m. and 4:15 p.m. (ET). Persons planning to attend this meeting are urged to contact the above named individual at least two working days prior to the meeting to be advised of any potential changes to the agenda.

Dated: May 16, 2006.
Michael R. Snodderly,
Acting Branch Chief, ACRS/ACNW.

[FR Doc. E6-7793 Filed 5-19-06; 8:45 am]

BILLING CODE 7590-01-P